NATIONAL COUNCIL ON DISABILITY

Sunshine Act Meetings; Correction

AGENCY: National Council on Disability.

ACTION: Sunshine Act Meetings; Correction.

SUMMARY: The National Council on Disability published a notice in the Federal Register of July 8, 2014, concerning a meeting of the Council. This document contains a correction to the start time of the meeting.

CONTACT PERSON FOR MORE INFORMATION: Anne Sommers, NCD, 1331 F Street NW., Suite 850, Washington, DC 20004; 202-272-2004 (V), 202-272-2074 (TTY).

In the Federal Register of July 8, 2014, in FR Doc. 14-15946, on page 38572, in the second column, correct the “Times and Dates” caption to read:

TIME AND DATES: The Members of the National Council on Disability (NCD) will hold a quarterly meeting on Thursday, July 24, 2014, 9:30 a.m. to 4:30 p.m. (Eastern Daylight Time). On July 25, 2014, from 9:30 a.m. to 12 p.m., the Council will host a congressional forum on the topic of the rights of parents with disabilities and their children that is also open to the public.

Dated: July 10, 2014.
Rebecca Cokley,
Executive Director.

[FR Doc. 2014-16587 Filed 7-11-14; 11:15 am]

BILLING CODE 8421-02-P